DEPARTMENT OF HOMELAND SECURITY

Federal Emergency Management Agency

44 CFR Part 67

[Docket No. FEMA-B-7763]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before May 22, 2008.

ADDRESSES: The corresponding preliminary Flood Insurance Rate Map (FIRM) for the proposed BFEs for each community are available for inspection at the community's map repository. The respective addresses are listed in the table below.

You may submit comments, identified by Docket No. FEMA-B-7763, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or.(e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001, et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001, et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground: Effective | * Elevation in feet (NGVD) + Elevation in feet (NAVD) # Depth in feet above ground: Modified | Communities affected
Alameda County, California, and Incorporated Areas
Arroyo Las Positas | Approximately 1,155 feet downstream of North Livermore Avenue | None | +444 | City of Livermore.
| Approximately 1,040 feet downstream of North Livermore Avenue | None | +445
Arroyo Las Positas (Shallow Flooding) | Approximately 530 feet east of the intersection of Airway Boulevard and Terminal Court | #1.5 | #2 | City of Livermore.
Arroyo del Valle | Approximately 0.7 mile downstream of Arroyo Road | None | +514 | Unincorporated Areas of Alameda County.
| Approximately 1,700 feet downstream of Arroyo Road | None | +531
Dublin Creek | Approximately 60 feet upstream of the confluence with Line J-1 | None | +332 | City of Pleasanton.
| Approximately 255 feet upstream of San Ramon Road | None | +369
Line B | At the confluence of Line B and Line D | +13 | +11 | City of Newark.
| At the crossing of Line B and Mowry Avenue | +13 | +11
San Francisco Bay | Along Oakland Inner Harbor, Alameda Harbor, Brooklyn Basin, Alaska Basin, Fartmann Basin, Tidal Canal, San Leandro Bay, and San Leandro Channel | None | +9 | City of Alameda.
San Francisco Bay | Area approximately 350 feet south of Neil Armstrong Way and Edward White Way | +9 | +10 | City of Oakland.
San Francisco Bay | Approximately 1,600 feet northwest of Marshlands Road and Thornton Avenue | None | +11 | City of Fremont.
| Approximately 400 feet east of Quarry Road and SH 84 | None | +11
San Lorenzo Creek (Shallow Flooding) | Shallow flooding areas between the San Francisco Bay and Center Street | None | #1 | City of San Leandro, City of Hayward, Unincorporated Areas of Alameda County.
Tassajara Creek (Zone 7) | Approximately 450 feet southwest of Tassajara Road and Shadow Hill Drive | None | +404 | Unincorporated Areas of Alameda County.
| Approximately 320 feet southwest of Tassajara Road and Shadow Hill Drive | None | +406
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Alameda
Maps are available for inspection at City of Alameda Public Works Department, 950 West Mall Square, Room 110, Alameda, CA.
City of Fremont
Maps are available for inspection at City of Fremont Development and Environmental Services Department, Engineering Division, 39550 Liberty Street, Fremont, CA.
City of Hayward
Maps are available for inspection at City of Hayward Engineering and Transportation Division, 777 B Street, Hayward, CA.
City of Livermore
Maps are available for inspection at City of Livermore Community Development Department, 1052 South Livermore Avenue, Livermore, CA.
City of Newark
Maps are available for inspection at City of Newark Administration Building, Building Inspection Division, 37101 Newark Boulevard, Newark, CA.
City of Oakland
Maps are available for inspection at City of Oakland Community and Economic Development Department, One Frank Ogawa Plaza, Oakland, CA.
City of Pleasanton
Maps are available for inspection at Pleasanton City Hall, 123 Main Street, Pleasanton, CA.
City of San Leandro
Maps are available for inspection at City of San Leandro Building Department, 835 East 14th Street, San Leandro, CA.
Unincorporated Areas of Alameda County
Maps are available for inspection at Alameda County Public Works Agency, 399 Elmhurst Street, Hayward, CA.
Monterey County, California, and Incorporated Areas
Calera Creek | At the confluence with El Toro Creek | +231 | +236 | Unincorporated Areas of Monterey County.
| Approximately 1.2 miles upstream of Robley Road | None | +469
| Approximately 500 feet west of the intersection of Robley Road and Corral de Tierra | None | #1
Carmel River | Approximately 370 feet above the mouth of the river | +12 | +16 | Unincorporated Areas of Monterey County.
| Approximately 170 feet downstream of San Clemente Dam | None | +470
Carmel River Garland Ranch Overbank | At the convergence with Carmel River main channel | None | +180 | Unincorporated Areas of Monterey County.
| At the divergence from Carmel River main channel | None | +194
Carmel River Hacienda Overbank | At the convergence with Carmel River main channel | None | +49 | Unincorporated Areas of Monterey County.
| At the divergence from Carmel River main channel | None | +59
Carmel River North Highway 1 Overbank | Approximately 600 feet downstream of State Highway 1 | +28 | +25 | Unincorporated Areas of Monterey County, City of Carmel By The Sea.
| At the divergence from Carmel River main channel | +40 | +39
Carmel River Schulte Overbank | At the convergence with Carmel River main channel | None | +90 | Unincorporated Areas of Monterey County.
| At the divergence from Carmel River main channel | None | +102
Carmel River South Highway 1 Overbank | Approximately 1,100 feet upstream of confluence with Carmel River main channel | +17 | +16 | Unincorporated Areas of Monterey County.
| Approximately 500 feet downstream of divergence from Carmel River main channel | +36 | +38
El Toro Creek | Approximately 650 feet downstream of Highway 68 | +221 | +222 | Unincorporated Areas of Monterey County.
| Approximately 300 feet upstream of Highway 68 | +231 | +236
Harper Creek | At the confluence with San Benancio Gulch | None | +371 | Unincorporated Areas of Monterey County.
| Approximately 0.6 mile upstream of Rimrock Canyon Road | None | +605
Pacific Ocean | Approximately 400 feet north of the intersection of Camino Aguajito and Del Monte Avenue | None | +22 | Unincorporated Areas of Monterey County, City of Monterey.
San Benancio Gulch | At the confluence with El Toro Creek | +231 | +236 | Unincorporated Areas of Monterey County.
| Approximately 0.7 mile upstream of Ridge Back Road | None | +839
Watson Creek | At the confluence with Calera Creek | +406 | +408 | Unincorporated Areas of Monterey County.
| Approximately 1.1 miles upstream of Calle Viejo | None | +886
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Carmel By The Sea
Maps are available for inspection at Carmel-by-the-Sea City Hall, East Side of Monte Verde between Ocean and 7th Avenues, Carmel-by-the-Sea, CA.
City of Monterey
Maps are available for inspection at City of Monterey Building and Safety Division, 580 Pacific Street, Monterey, CA.
Unincorporated Areas of Monterey County
Maps are available for inspection at Monterey County Water Resources Agency, 893 Blanco Circle, Salinas, CA.
Tulare County, California, and Incorporated Areas
Kaweah River | At Mill Creek/Packwood Creek Split | None | +363 | Unincorporated Areas of Tulare County.
| At downstream side of Southern Pacific Railroad | None | +390
Shallow Flooding (extensive area covering 19 map panels) | Approximately 1,000 feet southeast of intersection of State Highway 99 and Goshen Avenue | None | +282 | Unincorporated Areas of Tulare County, City of Farmersville, City of Visalia.
| Approximately 350 feet southwest of intersection of Lort Drive and Railroad | #2 | +391
St. Johns River | Approximately 0.5 mile upstream of Avenue 328 Bridge | None | +317 | Unincorporated Areas of Tulare County, City of Visalia.
| Approximately 220 feet downstream of Southern Pacific Railroad | None | +378
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Farmersville
Maps are available for inspection at Farmersville City Hall, 909 West Visalia Road, Farmersville, CA.
City of Visalia
Maps are available for inspection at Visalia City Hall East, 315 East Acequia, Visalia, CA.
Unincorporated Areas of Tulare County
Maps are available for inspection at Tulare County Resource Management Agency, 5961 South Mooney Boulevard, Visalia, CA.
Avery County, North Carolina, and Incorporated Areas
Linville River (upstream) | Approximately 50 feet downstream of Highland Mist Road | None | +3695 | Grandfather Village, Unincorporated Areas of Avery County.
| At the confluence of Big Grassy Creek | None | +3834
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
Grandfather Village
Maps are available for inspection at Village of Grandfather Village, 2120 Highway 105, Linville, NC.
Unincorporated Areas of Avery County
Maps are available for inspection at Avery County Courthouse, 200 Montezuma Street, Newland, NC.
Wilkes County, North Carolina, and Incorporated Areas
Beaver Creek | At the confluence with Yadkin River | None | +1079 | Unincorporated Areas of Wilkes County.
| Approximately 750 feet upstream of Caldwell/Wilkes County boundary | None | +1228
Beaver Creek Tributary 1 | At the confluence with Beaver Creek | None | +1084 | Unincorporated Areas of Wilkes County.
| Approximately 0.7 mile upstream of the confluence with Beaver Creek | None | +1100
Beaver Creek Tributary 2 | At the confluence with Beaver Creek | None | +1153 | Unincorporated Areas of Wilkes County.
| Approximately 590 feet upstream of Livingston Road (State Road 1130) | None | +1169
Beaver Creek Tributary 3 | At the confluence with Beaver Creek | None | +1159 | Unincorporated Areas of Wilkes County.
| Approximately 0.7 mile upstream of the confluence with Beaver Creek | None | +1190
Big Branch | At the confluence with Middle Prong Roaring River | None | +1300 | Unincorporated Areas of Wilkes County.
| Approximately 1,080 feet upstream of Moxley Road (State Road 1735) | None | +1350
Big Bugaboo Creek | At the confluence with Yadkin River | None | +926 | Unincorporated Areas of Wilkes County.
| Approximately 0.9 mile upstream of the confluence of Big Bugaboo Creek Tributary 1 | None | +1213
Big Bugaboo Creek Tributary 1 | At the confluence with Big Bugaboo Creek | None | +1183 | Unincorporated Areas of Wilkes County.
| Approximately 2,000 feet upstream of the confuence with Big Bugaboo Creek | None | +1207
Big Sandy Creek | At the confluence with East Prong Roaring River | None | +1226 | Unincorporated Areas of Wilkes County.
| Approximately 1,270 feet upstream of Traphill-Brown Road (State Road 1741) | None | +1323
Big Warrior Creek | At the confluence with Warrior Creek | None | +1085 | Unincorporated Areas of Wilkes County.
| Approximately 1.8 miles upstream of the confluence of Big Warrior Creek Tributary 1 | None | +1275
Big Warrior Creek Tributary 1 | At the confluence with Big Warrior Creek | None | +1128 | Unincorporated Areas of Wilkes County.
| Approximately 0.8 mile upstream of the confluence with Big Warrior Creek | None | +1237
Blood Creek | At the confluence with Warrior Creek | None | +1075 | Unincorporated Areas of Wilkes County.
| Approximately 1,990 feet upstream of Walsh Town Road (State Road 1119) | None | +1081
Brier Creek | At the confluence with Yadkin River | None | +933 | Unincorporated Areas of Wilkes County.
| Approximately 1,370 feet upstream of Rance Staley Road (State Road 2325) | None | +1039
Brier Creek Tributary 1 | At the confluence with Brier Creek | None | +933 | Unincorporated Areas of Wilkes County.
| Approximately 1.1 miles upstream of Red White & Blue Road (State Road 2324) | None | +981
Brushy Creek | Approximately 300 feet downstream of the Iredell/Wilkes County boundary | None | +905 | Unincorporated Areas of Wilkes County.
| Approximately 100 feet upstream of the Iredell/Wilkes County boundary | None | +908
Cane Creek | At the confluence with West Prong Roaring River | None | +1173 | Unincorporated Areas of Wilkes County.
| Approximately 1.7 miles upstream of Dehart Church Road (State Road 1715) | None | +1325
Cub Creek | At the confluence with Yadkin River | +962 | +963 | Unincorporated Areas of Wilkes County, Town of Wilkesboro.
| Approximately 0.6 mile upstream of Pennell Road (State Road 2493) | None | +1084
Darnell Creek | At the confluence with North Fork Reddies River | None | +1290 | Unincorporated Areas of Wilkes County.
| Approximately 1.2 miles upstream of State Road 1567 | None | +1413
Double Creek | At the confluence with Middle Prong Roaring River | None | +1293 | Unincorporated Areas of Wilkes County.
| Approximately 100 feet upstream of confluence of Double Creek Tributary 1 | None | +1371
Double Creek Tributary 1 | The confluence with Double Creek | None | +1370 | Unincorporated Areas of Wilkes County.
| Approximately 0.5 mile upstream of confluence with Double Creek | None | +1396
Dugger Creek | At the confluence with Elk Creek | None | +1278 | Unincorporated Areas of Wilkes County.
| Approximately 1,170 feet upstream of Elk Creek Darby Road (State Road 1162) | None | +1323
East Prong Roaring River | At the confluence with Roaring River | None | +1009 | Unincorporated Areas of Wilkes County.
| Approximately 2.8 miles upstream of Longbottom Road (State Road 1737) | None | +1389
East Swan Creek | At the confluence with Swan Creek | None | +911 | Unincorporated Areas of Wilkes County.
| Approximately 0.9 mile upstream of the confluence with Swan Creek | None | +927
Elk Creek | At the confluence with Yadkin River | None | +1090 | Unincorporated Areas of Wilkes County.
| At the Watauga/Wilkes County boundary | None | +1349
Elk Creek Tributary 1 | At the confluence with Elk Creek | None | +1235 | Unincorporated Areas of Wilkes County.
| Approximately 0.8 mile upstream of Elk Creek Darby Road (State Road 1162) | None | +1626
Elk Creek Tributary 2 | At the confluence with Elk Creek | None | +1237 | Unincorporated Areas of Wilkes County.
| Approximately 1,030 feet upstream of Meadow Road | None | +1358
Elkin Creek | Approximately 1,700 feet downstream of the Wilkes/Surry County boundary | None | +938 | Unincorporated Areas of Wilkes County.
| Approximately 700 feet upstream of Union Community Road (State Road 1919) | None | +1293
Elkin Creek Tributary 1 | At the confluence with Elkin Creek | None | +1185 | Unincorporated Areas of Wilkes County.
| Approximately 0.7 mile upstream of State Road 1910 | None | +1213
Fishing Creek | At the confluence with Yadkin River | None | +942 | Unincorporated Areas of Wilkes County.
| Approximately 100 feet downstream of Speedway Road (State Road 2355) | None | +1063
Fishing Creek Tributary 1 | At the confluence with Fishing Creek | None | +945 | Unincorporated Areas of Wilkes County.
| Approximately 1.9 miles upstream of Old NC 60 Highway (State Road 2318) | None | +997
Fishing Creek Tributary 2 | At the confluence with Fishing Creek | None | +1023 | Unincorporated Areas of Wilkes County.
| Approximately 250 feet downstream of U.S. Highway 421 | None | +1129
Fishing Creek Tributary 2A | At the confluence with Fishing Creek Tributary 2 | None | +1119 | Unincorporated Areas of Wilkes County.
| Approximately 0.5 mile upstream of the confluence with Fishing Creek Tributary 2 | None | +1153
Fletcher Creek | At the confluence with South Prong Lewis Fork | None | +1399 | Unincorporated Areas of Wilkes County.
| Approximately 0.4 mile upstream of Shady Walk Lane | None | +1517
Gambill Creek | At the confluence with West Prong Roaring River | None | +1343 | Unincorporated Areas of Wilkes County.
| Approximately 0.6 mile upstream of the confluence with West Prong Roaring River | None | +1401
Gladys Fork | At the confluence with Stony Fork | None | +1092 | Unincorporated Areas of Wilkes County.
| Approximately 0.5 mile upstream of Mount Pleasant Road (State Road 1135) | None | +1141
Grassy Creek West | At the confluence with Elkin Creek | None | +980 | Unincorporated Areas of Wilkes County.
| At Wilkes/Surry County boundary | None | +987
Grassy Fork | At the confluence with Elkin Creek | None | +1112 | Unincorporated Areas of Wilkes County.
| Approximately 1,990 feet upstream of the confluence with Elkin Creek | None | +1119
Grays Creek | At the confluence with the Yadkin River | None | +921 | Unincorporated Areas of Wilkes County.
| Approximately 0.9 mile upstream of State Road 2321 | None | +929
Harris Creek | At the confluence with Double Creek | None | +1318 | Unincorporated Areas of Wilkes County.
| Approximately 0.6 mile upstream of Longbottom Road (State Road 1730) | None | +1425
Hoopers Branch | At the confluence with Reddies River | None | +997 | Unincorporated Areas of Wilkes County, Town of North Wilkesboro.
| Approximately 1,580 feet upstream of Hackett Street | None | +1088
Huffman Branch | At the confluence with North Prong Lewis Fork | None | +1278 | Unincorporated Areas of Wilkes County.
| Approximately 0.6 mile upstream of Parsonville Road (State Road 1300) | None | +1324
Hunting Creek | Approximately 100 feet downstream of the Wilkes/Iredell County boundary | None | +895 | Unincorporated Areas of Wilkes County.
| Approximately 1.4 miles upstream of Balls Mill Road (State Road 2474) | None | +1176
Joshua Creek | At the confluence with Mulberry Creek | None | +1453 | Unincorporated Areas of Wilkes County.
| Approximately 890 feet upstream of Longbottom Road (State Road 1728) | None | +1528
Left Prong Stony Fork | At the confluence with Stony Fork | None | +1332 | Unincorporated Areas of Wilkes County.
| At the Watauga/Wilkes County boundary | None | +1639
Lewis Fork | At the confluence with Yadkin River | None | +1075 | Unincorporated Areas of Wilkes County.
| At the confluence of North Prong Lewis Fork and South Prong Lewis Fork | None | +1077
Little Bugaboo Creek | At the confluence with Big Bugaboo Creek | None | +1035 | Unincorporated Areas of Wilkes County.
| Approximately 620 feet upstream of Hoots Road (State Road 2014) | None | +1074
Little Elkin Creek | The confluence with Yadkin River | None | +905 | Unincorporated Areas of Wilkes County.
| Approximately 0.6 mile upstream of Greenhorn Road (State Road 1931) | None | +1177
Little Fork Creek | At the confluence with North Prong Lewis Fork | None | +1304 | Unincorporated Areas of Wilkes County.
| Approximately 1.4 miles upstream of Benny Parsons Road (State Road 1359) | None | +1664
Little Hunting Creek | At the confluence with Hunting Creek | None | +915 | Unincorporated Areas of Wilkes County.
| Approximately 2.0 miles upstream of Mountain View Church Road (State Road 2503) | None | +1281
Little Sandy Creek | At the confluence with East Prong Roaring River | None | +1084 | Unincorporated Areas of Wilkes County.
| Approximately 0.5 mile upstream of Longbottom Road (State Road 1737) | None | +1280
Little Warrior Creek | At the confluence with Warrior Creek | None | +1075 | Unincorporated Areas of Wilkes County.
| Approximately 0.6 mile upstream of Thankful Church Road (State Road 1125) | None | +1170
Long Branch North | At the Wilkes/Yadkin County boundary | None | +1075 | Unincorporated Areas of Wilkes County.
| Approximately 50 feet upstream of the Wilkes/Yadkin County boundary | None | +1075
Middle Fork Reddies River | At the confluence with Reddies River | None | +1202 | Unincorporated Areas of Wilkes County.
| Approximately 0.7 mile upstream of State Road 1580 | None | +1326
Middle Prong Roaring River | At the confluence with Roaring River | None | +1009 | Unincorporated Areas of Wilkes County.
| Approximately 2.1 miles upstream of Moxley Road (State Road 1735) | None | +1442
Mill Creek | At the confluence with Cub Creek | None | +964 | Unincorporated Areas of Wilkes County, Town of Wilkesboro.
| Approximately 1,000 feet downstream of Country Club Road (State Road 2462) | None | +1052
Mill Creek North | At the confluence with North Fork Reddies River | None | +1258 | Unincorporated Areas of Wilkes County.
| Approximately 0.6 mile upstream of Mertie Road (State Road 1570) | None | +2115
Moravian Creek | At the confluence with Yadkin River | +969 | +968 | Unincorporated Areas of Wilkes County, Town of Wilkesboro.
| At the confluence of Moravian Creek Tributary 1 | None | +1233
Moravian Creek Tributary 1 | At the confluence with Moravian Creek | None | +1233 | Unincorporated Areas of Wilkes County.
| Approximately 0.5 mile upstream of Lowe Creek Road (State Road 2488) | None | +1311
Mulberry Creek | At the confluence with Yadkin River | +955 | +952 | Unincorporated Areas of Wilkes County, Town of North Wilkesboro.
| At the confluence of Joshua Creek | None | +1453
Mulberry Creek Tributary 1 | At the confluence with Mulberry Creek | None | +1294 | Unincorporated Areas of Wilkes County.
| Approximately 0.6 mile upstream of Sparta Road/NC Highway 18 | None | +1405
Naked Creek | At the confluence with Lewis Fork | None | +1075 | Unincorporated Areas of Wilkes County.
| Approximately 110 feet downstream of Dr. Miles Road (State Road 1152) | None | +1172
North Fork Reddies River | At the confluence with Reddies River | None | +1167 | Unincorporated Areas of Wilkes County.
| Approximately 200 feet downstream of Vannoy Road (State Road 1575) | None | +1460
North Little Hunting Creek | At the Wilkes/Yadkin County boundary | None | +1024 | Unincorporated Areas of Wilkes County.
| Approximately 1,410 feet upstream of Somers Road (State Road 2400) | None | +1119
North Little Hunting Creek Tributary 3 | At the confluence with North Little Hunting Creek | None | +1039 | Unincorporated Areas of Wilkes County.
| Approximately 610 feet upstream of the U.S. Highway 421 East ramp | None | +1069
North Little Hunting Creek Tributary 4 | At the confluence with North Little Hunting Creek | None | +1069 | Unincorporated Areas of Wilkes County.
| Approximately 410 feet upstream of Somers Road (State Road 2400) | None | +1098
North Prong Lewis Fork | At the confluence with Lewis Fork | None | +1077 | Unincorporated Areas of Wilkes County.
| Approximately 2.0 miles upstream of Big Ivy Road (State Road 1360) | None | +1698
Osborn Creek | At the confluence with Hunting Creek | None | +895 | Unincorporated Areas of Wilkes County.
| Approximately 1.1 miles upstream of Hunting Creek Road (State Road 2412) | None | +1044
Pumpkin Creek | At the confluence with Warrior Creek | None | +1075 | Unincorporated Areas of Wilkes County.
| Approximately 0.4 mile upstream of Pumpkin Creek Road (State Road 1303) | None | +1163
Pumpkin Run | At the confluence with South Prong Lewis Fork | None | +1298 | Unincorporated Areas of Wilkes County.
| Approximately 1.0 mile upstream of Pumpkin Run Road (State Road 1303) | None | +1400
Reddies River | At the confluence with Yadkin River | +963 | +964 | Unincorporated Areas of Wilkes County, Town of North Wilkesboro.
| At the confluence of Middle Fork Reddies River and South Fork Reddies River | None | +1202
Roaring River | At the confluence with Yadkin River | None | +936 | Unincorporated Areas of Wilkes County.
| At the confluence of East Prong Roaring River | None | +1009
Rocky Creek | At the Wilkes/Alexander County boundary | None | +1192 | Unincorporated Areas of Wilkes County.
| Approximately 1.0 mile upstream of the confluence of Rocky Creek Tributary 1 | None | +1287
Rocky Creek Tributary 1 | At the confluence with Rocky Creek | None | +1255 | Unincorporated Areas of Wilkes County.
| Approximately 1,500 feet upstream of the confluence with Rocky Creek | None | +1263
Shell Creek | At the confluence with Stony Fork | None | +1164 | Unincorporated Areas of Wilkes County.
| Approximately 870 feet upstream of Mt. Zion Road (State Road 1155) | None | +1197
South Fork Reddies River | At the confluence with Reddies River | None | +1202 | Unincorporated Areas of Wilkes County.
| Approximately 50 feet upstream of White Oak Road (State Road 1355) | None | +1388
South Prong Lewis Fork | At the confluence with Lewis Fork | None | +1077 | Unincorporated Areas of Wilkes County.
| Approximately 1.2 miles upstream of the confluence of Fletcher Creek | None | +1478
South Prong Lewis Fork Tributary 1 | At the confluence with South Prong Lewis Fork | None | +1195 | Unincorporated Areas of Wilkes County.
| Approximately 2.4 miles upstream of the confluence with South Prong Lewis Fork | None | +1536
Sparks Creek | At the confluence with Little Sandy Creek | None | +1108 | Unincorporated Areas of Wilkes County.
| Approxmately 800 feet downstream of Cook-Lyon Road | None | +1200
Stony Fork | At the confluence with Yadkin River | None | +1078 | Unincorporated Areas of Wilkes County.
| At the Watauga/Wilkes County boundary | None | +1975
Swan Creek | At the confluence with Yadkin River | None | +911 | Unincorporated Areas of Wilkes County.
| At the confluence of East Swan Creek and West Swan Creek | None | +911
Tributary M-1-1 | Approximately 50 feet upstream of the confluence with Tributary M-1 | None | +1071 | Unincorporated Areas of Wilkes County, Town of North Wilkesboro.
| Approximately 0.5 mile upstream of Elkin Highway/NC Highway 268 | None | +1160
Tributary R-1 | Approximately 1,360 feet upstream of Finley Street | None | +1090 | Town of North Wilkesboro.
| Approximately 0.4 mile upstream of Finley Street | None | +1126
Tributary R-1-1 | Approximately 100 feet upstream of the confluence with Tributary R-1 | None | +1047 | Town of North Wilkesboro.
| Approximately 0.4 mile upstream of the confluence with Tributary R-1 | None | +1153
Tributary Y-1 | At the confluence with Yadkin River | +959 | +957 | Town of North Wilkesboro.
| Approximately 0.6 mile upstream of the confluence of Tributary Y-1-1 | None | +1088
Tributary Y-1-1 | At the confluence with Tributary Y-1 | None | +959 | Town of North Wilkesboro.
| Approximately 0.4 mile upstream of the confluence with Tributary Y-1 | None | +1072
Tributary Y-2 | At the confluence with Yadkin River | +960 | +962 | Town of North Wilkesboro.
| Approximately 0.7 mile upstream of 2nd Street/U.S. Highway 421 | None | +1078
Tributary Y-3 | At the confluence with Yadkin River | +960 | +963 | Town of North Wilkesboro.
| Approximately 100 feet downstream of D Street | +991 | +996
Warrior Creek | At the confluence with Yadkin River | None | +1075 | Unincorporated Areas of Wilkes County.
| Approximately 830 feet upstream of NC Highway 18 | None | +1107
West Prong Moravian Creek | At the confluence with Moravian Creek | None | +1068 | Unincorporated Areas of Wilkes County.
| Approximately 1.3 miles upstream of Falls Road (State Road 1108) | None | +1184
West Prong Moravian Creek Tributary 1 | At the confluence with West Prong Moravian Creek | None | +1075 | Unincorporated Areas of Wilkes County.
| Approximately 510 feet downstream of Falls Road (State Road 1108) | None | +1100
West Prong Roaring River | At the confluence with Middle Prong Roaring River | None | +1091 | Unincorporated Areas of Wilkes County.
| Approximately 2.4 miles upstream of State Road 1731 | None | +1561
West Swan Creek | At the confluence with Swan Creek | None | +911 | Unincorporated Areas of Wilkes County.
| Approximately 0.8 mile upstream of Bethel Road | None | +944
Whites Creek | At the confluence with Yadkin River | None | +1075 | Unincorporated Areas of Wilkes County.
| Approximately 1.1 miles upstream of NC Highway 268 | None | +1094
Yadkin River | Approximately 200 feet downstream of the Yadkin/Wilkes County boundary | None | +903 | Unincorporated Areas of Wilkes County, Town of North Wilkesboro, Town of Ronda, Town of Wilkesboro.
| At the Caldwell/Wilkes County boundary | None | +1090
Yadkin River Tributary 14 | At the confluence with Yadkin River | None | +903 | Unincorporated Areas of Wilkes County.
| Approximately 0.9 mile upstream of State Road 2306 | None | +917
Yadkin River Tributary 15 | At the confluence with Yadkin River | None | +919 | Unincorporated Areas of Wilkes County.
| Approximately 1.7 miles upstream of the confluence with Yadkin River | None | +942
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of North Wilkesboro
Maps are available for inspection at North Wilkesboro Town Hall, 832 Main Street, North Wilkesboro, NC.
Town of Ronda
Maps are available for inspection at Ronda Town Hall, 123 Chatham Street, Ronda, NC.
Town of Wilkesboro
Maps are available for inspection at Wilkesboro Town Hall, 203 West Main Street, Wilkesboro, NC.
Unincorporated Areas of Wilkes County
Maps are available for inspection at Wilkes County Office Building, 110 North Street, Wilkesboro, NC.

(Catalog of Federal Domestic Assistance No. 97.022, “Flood Insurance.”)

Dated: February 12, 2008.
David I. Maurstad,
Federal Insurance Administrator of the National Flood Insurance Program, Department of Homeland Security, Federal Emergency Management Agency.

[FR Doc. E8-3362 Filed 2-21-08; 8:45 am]

BILLING CODE 9110-12-P